DEPARTMENT OF HEALTH AND HUMAN SERVICES

Health Resources and Services Administration

White House Initiative on Asian Americans and Pacific Islanders, President's Advisory Commission; Notice of Meeting

In accordance with section 10(a)(2) of the Federal Advisory Committee Act (Public Law 92-463), announcement is made of the following National Advisory body scheduled to conduct a public meeting during the month of September 2000.

Name: President's Advisory Commission on Asian Americans and Pacific Islanders (AAPIs)

Date and Time:

September 18, 2000; 9:00 a.m.—7:00 p.m. EDT

September 19, 2000; 8:00 a.m.—3:00 p.m. EDT

Place:

On September 18, 2000, at: New York University, School of Law, Tishman Auditorium, 40 Washington Square South, New York, NY 10012

On September 19, 2000, at: New York University, School of Law, Greenberg Lounge, 40 Washington Square South, New York, NY 10012.

The meeting is open to the public.

The President's Advisory Commission on AAPIs will conduct a public meeting on September 18, 2000, from 9:00 a.m. to 7:00 p.m. EDT inclusive, and subsequent meeting on September 19, 2000, from 8:00 a.m. to 3:00 p.m. EDT inclusive.

Agenda items will include, but will not be limited to: testimony from community organizations and individuals; approval of July Commission meeting minutes; reports and recommendations from Commissioners and subcommittees; administrative tasks; deadlines; and upcoming events.

The purpose of the Commission is to advise the President on the issues facing Asian Americans and Pacific Islanders.

Requests to address the Commission should be made in writing and should include the name, address, telephone number, and business or professional affiliation of the interested party. Forms to request an opportunity to testify can be downloaded at: www.aapi.gov. Individuals or groups addressing similar issues are encouraged to combine comments and present through a single representative. The allocation of time for remarks may be adjusted to accommodate the level of expressed interest. Written requests should be faxed to (301) 443-0259.

Anyone who has interest in joining any portion of the meeting or who requires additional information about the Commission should contact: Mr. Tyson Nakashima, Office of the White House Initiative on AAPIs, Parklawn Building, Room 10-42, 5600 Fishers Lane, Rockville, MD, 20857, Telephone (301) 443-2492. Anyone who requires special assistance, such as sign language interpretation, foreign language interpretation, or other reasonable accommodations, should contact Mr. Nakashima no later than September 8, 2000.

Dated: August 25, 2000.
James J. Corrigan,
Associate Administrator for Management and Program Support.

[FR Doc. 00-22310 Filed 8-30-00; 8:45 am]

BILLING CODE 4160-15-P